DEPARTMENT OF TRANSPORTATION

Federal Aviation Administration

14 CFR Part 39

[Docket No. FAA-2011-0719; Directorate Identifier 2010-NM-087-AD]

RIN 2120-AA64

Airworthiness Directives; The Boeing Company Model 767-200, -300, and -400ER Series Airplanes

AGENCY: Federal Aviation Administration (FAA), DOT.

ACTION: Notice of proposed rulemaking (NPRM).

SUMMARY: We propose to supersede an existing airworthiness directive (AD) that applies to the products listed above. The existing AD currently requires replacing the separation link assembly on the applicable entry and service doors with an improved separation link assembly, and doing related investigative and corrective actions if necessary. Since we issued that AD, we have received a report that an additional airplane is subject to the unsafe condition. This proposed AD would add that airplane to the applicability and also remove certain other airplanes from the applicability. We are proposing this AD to prevent failure of an entry or service door to open fully in the event of an emergency evacuation, which could impede exit from the airplane. This condition could result in injury to passengers or crewmembers.

DATES: We must receive comments on this proposed AD by September 2, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Stephen Styskal, Aerospace Engineer, Cabin Safety and Environmental Systems Branch, ANM-150S, FAA, Seattle Aircraft Certification Office, 1601 Lind Avenue, SW., Renton, Washington 98057-3356; phone: (425) 917-6439; fax: (425) 917-6590; e-mail: stephen.styskal@faa.gov.

SUPPLEMENTARY INFORMATION:

Comments Invited

We invite you to send any written relevant data, views, or arguments about this proposed AD. Send your comments to an address listed under the ADDRESSES section. Include “Docket No. FAA-2011-0719; Directorate Identifier 2010-NM-087-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On January 22, 2009, we issued AD 2009-04-12, Amendment 39-15818 (74 FR 8717, February 26, 2009), for certain Model 767-200, -300, and -400ER series airplanes. That AD requires replacing the separation link assembly on the applicable entry and service doors with an improved separation link assembly, and doing related investigative and corrective actions if necessary. That AD resulted from reports that entry and service doors did not open fully during deployment of emergency escape slides, and additional reports of missing snap rings. We issued that AD to prevent failure of an entry or service door to open fully in the event of an emergency evacuation, which could impede exit from the airplane. This condition could result in injury to passengers or crewmembers.

Actions Since Existing AD Was Issued

Since we issued AD 2009-04-12, we have received a report indicating that an additional airplane is subject to the unsafe condition. In addition, four airplanes were converted to freighter configurations without the affected slides, and, therefore, are no longer subject to the unsafe condition.

Relevant Service Information

We reviewed Boeing Special Attention Service Bulletin 767-25-0428, Revision 3, dated October 21, 2010. This service bulletin describes the same procedures that are described in Boeing Special Attention Service Bulletin 767-25-0428, Revision 1, dated May 8, 2008 (which was referenced in AD 2009-04-12 as the appropriate source of service information). Revision 3 of Boeing Special Attention Service Bulletin 767-25-0428 adds a step to the entry/service door bustle installation process, and contains information on airplanes identified in the revised Effectivity section and a changed part number for a cap screw.

Boeing Special Attention Service Bulletin 767-25-0428, Revision 2, dated February 4, 2010, included an additional airplane in the Effectivity section and removed four airplanes from the Effectivity section.

FAA's Determination

We are proposing this AD because we evaluated all the relevant information and determined the unsafe condition described previously is likely to exist or develop in other products of the same type design.

Proposed AD Requirements

This proposed AD would retain all the requirements of AD 2009-04-12 using the revised service information described previously. This proposed AD would add an airplane to the applicability and also remove certain other airplanes from the applicability.

Change to Existing AD

This proposed AD would retain all requirements of AD 2009-04-12. Since AD 2009-04-12 was issued, the AD format has been revised, and certain paragraphs have been rearranged. As a result, the corresponding paragraph identifiers have changed in this proposed AD, as listed in the following table:

Revised Paragraph Identifiers
Requirement in AD 2009-04-12 | Corresponding requirement in this proposed AD
paragraph (f) | paragraph (g)

Costs of Compliance

We estimate that this proposed AD affects 355 airplanes of U.S. registry.

We estimate the following costs to comply with this proposed AD:

Estimated Costs
Action | Labor cost | Parts cost | Cost per product | Cost on U.S. operators
Replacement (retained actions from existing AD) | Up to 7 work-hours × $85 per hour = $595 | Up to $10,671 | Up to $11,266 | Up to $3,999,430.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-04-12, Amendment 39-15818 (74 FR 8717, February 26, 2009), and adding the following new AD:

The Boeing Company: Docket No. FAA-2010-0719; Directorate Identifier 2010-NM-087-AD.

Comments Due Date

(a) The FAA must receive comments on this AD action by September 2, 2011.

Affected ADs

(b) This AD supersedes AD 2009-04-12, Amendment 39-15818.

Applicability

(c) This AD applies to The Boeing Company Model 767-200, -300, and -400ER series airplanes, certificated in any category, as identified in Boeing Special Attention Service Bulletin 767-25-0428, Revision 3, dated October 21, 2010.

Subject

(d) Joint Aircraft System Component (JASC)/Air Transport Association (ATA) of America Code 25: Equipment/Furnishings.

Unsafe Condition

(e) This AD was prompted by reports that entry and service doors did not open fully during deployment of emergency escape slides, and additional reports of missing snap rings. We are issuing this AD to prevent failure of an entry or service door to open fully in the event of an emergency evacuation, which could impede exit from the airplane. This condition could result in injury to passengers or crewmembers.

Compliance

(f) Comply with this AD within the compliance times specified, unless already done.

Restatement of Requirements of AD 2009-04-12, with Revised Service Information and Additional Airplane:

Replacement

(g) At the applicable time specified in paragraphs (g)(1) and (g)(2) of this AD, replace the separation link assembly on the deployment bar of the emergency escape system on all the applicable entry and service doors with an improved separation link assembly; and do all the applicable related investigative and corrective actions before further flight; by accomplishing all of the applicable actions specified in the Accomplishment Instructions of any service bulletin identified in table 1 of this AD. After April 2, 2009 (the effective date of AD 2009-04-12), only Boeing Special Attention Service Bulletin 767-25-0428, Revision 1 or Revision 3 may be used to accomplish the requirements of AD 2009-04-12. After the effective date of this AD, only Revision 3 may be used.

Table 1—Service Information
Boeing special attention Service Bulletin— | Revision— | Dated—
767-25-0428 | Original | August 23, 2007.
767-25-0428 | 1 | May 8, 2008.
767-25-0428 | 3 | October 21, 2010.

(1) For airplanes other than those having variable number VN 137: Within 48 months after April 2, 2009.

(2) For the airplane having variable number VN 137: Within 48 months after the effective date of this AD.

Credit for Actions Accomplished in Accordance With Previous Service Information

(h) Actions done before the effective date of this AD in accordance with Boeing Special Attention Service Bulletin 767-25-0428, Revision 2, dated February 4, 2010, are acceptable for compliance with the corresponding requirements of this AD.

Alternative Methods of Compliance (AMOCs)

(i)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) AMOCs approved for AD 2009-04-12 are approved as AMOCs for the corresponding provisions of this AD.

Related Information

(j) For more information about this AD, contact Stephen Styskal, Aerospace Engineer, Cabin Safety and Environmental Systems Branch, ANM-150S, FAA, Seattle Aircraft Certification Office, 1601 Lind Avenue, SW., Renton, Washington 98057-3356; phone: (425) 917-6439; fax: (425) 917-6590; e-mail: stephen.styskal@faa.gov.

(k) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on July 8, 2011.
Kalene C. Yanamura,
Acting Manager, Transport Airplane Directorate, Aircraft Certification Service.

[FR Doc. 2011-18136 Filed 7-18-11; 8:45 am]

BILLING CODE 4910-13-P